DEPARTMENT OF DEFENSE

Department of the Army

Notice of Availability of Patented Acoustic Monitoring and Diagnostic Technologies for Exclusive, Partially Exclusive or Non-Exclusive Licenses

AGENCY: Department of the Army, DoD.

ACTION: Notice of availability.

SUMMARY: The Department of the Army announces the general availability of exclusive, partially exclusive or non-exclusive licenses relative to acoustic monitoring and diagnostic technologies as described in U.S. Patent No. 5,515,865, No. 5,684,460, and No. 5,853,005. Licenses shall comply with 35 U.S.C. 209 and 37 CFR 404.

FOR FURTHER INFORMATION CONTACT: Michael D. Rausa, U.S. Army Research Laboratory, Office of Research and Technology Applications, ATTN: AMSRL-DP-T/Bldg. 434, Aberdeen Proving Ground, MD 21005-5425, Telephone: (410) 278-5028.

SUPPLEMENTARY INFORMATION: The U.S. Army Research Laboratory (ARL) will be sponsoring an ARL Acoustic Monitor Technology Showcase Day to be held on August 17, 2005 at EAI Corporation, Abingdon, MD. This event, designed to facilitate serious discussions concerning the use of the technology and licensing it for specific uses. The scheduled one-on-one discussions are meant to ensure that private communication between each interested party and ARL can occur. This will greatly assist in a potential licensee's review process in determining the applicability of the ARL acoustic monitor to each specific application and in fully understanding the licensing process. If you are planning to attend and/or require additional information please contact Dr. Kevin Smith at (724) 539-8310 or by e-mail address to ksmith@tech-scouts.net. Specific information relative to the technology can been seen at http://stb.apg.army.mil/Library/briefings/TEDCO/ar121.pdf.

Brenda S. Bowen,
Army Federal Register Liaison Officer.

[FR Doc. 05-14211 Filed 7-19-05; 8:45 am]

BILLING CODE 3710-08-M